ENVIRONMENTAL PROTECTION AGENCY

[EPA-R07-SFUND-2013-0267; FRL9807-3]

Proposed Administrative Cost Recovery Settlement Under Section 122(h) of the Comprehensive Environmental Response Compensation and Liability Act, as Amended, Leadwood Mine Tailings Superfund Site, St. Francois County, Missouri

AGENCY: Environmental Protection Agency (EPA).

ACTION: Notice; request for public comment.

SUMMARY: In accordance with Section 122(i) of the Comprehensive Environmental Response Compensation and Liability Act, as amended (CERCLA), notice is hereby given of a proposed administrative settlement with The Doe Run Resources Corporation, St. Louis, Missouri, for recovery of past response costs concerning the Leadwood Mine Tailings Superfund Site in St. Francois County, Missouri. The settlement requires The Doe Run Resources Corporation to pay $175,000.00 to the Hazardous Substance Superfund. The settlement includes a covenant not to sue the settling party pursuant to Section 107(a) of CERCLA. For thirty (30) days following the date of publication of this notice, EPA will receive written comments relating to the settlement. EPA will consider all comments and may modify or withdraw its consent to the settlement if comments received disclose facts or considerations which indicate that the settlement is inappropriate, improper, or inadequate. EPA's response to any comments received will be available for public inspection at the EPA Region 7 office located at 11201 Renner Boulevard, Lenexa, Kansas 66219.

DATES: Comments must be submitted on or before May 29, 2013.

ADDRESSES: The proposed settlement is available for public inspection at the EPA Region 7 office, 11201 Renner Boulevard, Lenexa, Kansas, Monday through Friday, between the hours of 8:00 a.m. through 4:00 p.m. A copy of the proposed settlement may be obtained from the Regional Hearing Clerk, 11201 Renner Boulevard, Lenexa, Kansas 66219, (913) 551-7567. Requests should reference the Leadwood Mine Tailings Superfund Site, EPA Docket No. CERCLA-07-2013-0002. Comments should be addressed to: Julie M. Van Horn, Senior Assistant Regional Counsel, 11201 Renner Boulevard, Lenexa, Kansas 66219.

FOR FURTHER INFORMATION CONTACT: Julie M. Van Horn, at telephone: (913) 551-7889; fax number: (913) 551-7925/Attn: Julie M. Van Horn; email address: vanhorn.julie@epa.gov.

Dated: April 17, 2013.
Cecilia Tapia,
Director, Superfund Division, EPA Region 7.

[FR Doc. 2013-10045 Filed 4-26-13; 8:45 am]

BILLING CODE 6560-50-P